DEPARTMENT OF JUSTICE

Office of Justice Programs

Agency Information Collection Activities: Existing Collection; Comment Requested

ACTION: 60-Day Notice of Information Collection Under Review: National Prisoner Statistics-Prison Population Reports, NPS-1A, Midyear Population Counts, NPS-1B: Advance Endyear Population Counts.

The Department of Justice (DOJ), Office of Justice Programs, has submitted the following information collection to the Office of Management and Budget (OMB) for review and approval in accordance with the Paperwork Reduction Act of 1995. The proposed information collection is published to obtain comments from the public and affected agencies. Comments are encouraged and will be accepted for “sixty days” until October 12, 2004. This process is conducted in accordance with 5 CFR 1320.10.

If you have comments especially regarding the estimated public burden and associated response time, or need a copy of the proposed information collection instrument with instructions or additional information, please contact Paige Harrison by e-mail at paige.harrison@usdoj.gov.

Written comments and suggestions from the public and affected agencies concerning the proposed collection of information are encouraged. Your comments should address one or more of the following four points:

—Evaluate whether the collection of information is necessary for the proper performance of the functions of the agency, including whether the information will have practical utility;

—Evaluate the accuracy of the agency's estimate of the burden of the collection of information, including the validity of the methodology and assumptions used;

—Enhance the quality, utility and clarity of the information to be collected; and

—Minimize the burden of the collection of information on those who are to respond, including through the use of appropriate automated, electronic, mechanical, or other technological collection techniques or other forms of information technology, e.g. permitting electronic submission of responses.

Overview of this information collection:

(1) Type of Information Collection: Extension of a currently approved collection

(2) Title of the Form/Collection: National Prisoner Statistics-Prison Population Reports, NPS-1A, Midyear Population Counts, NPS-1B: Advance Endyear Population Counts.

(3) Agency form number, if any, and the applicable component of the Department of Justice sponsoring the collection: Form number: NPS-1A; and NPS-1B. Office of Justice Programs, U.S. Department of Justice.

(4) Affected public who will be asked to respond, as well as a brief abstract: Primary: State Departments of Corrections. Others: The Federal Bureau of Prisons. For the NPS-1A form, 51 central reporters (one from each State and the Federal Bureau of Prisons) responsible for keeping records on inmates will be asked to provide information for the following categories:

(a) As of June 30, the number of male and female inmates under their jurisdiction with maximum sentences of more than one year, one year or less; and unsentenced inmates; and

(b) As of June 30, the number of male and female inmates in their custody with maximum sentences of more than one year, one year or less; and unsentenced inmates; and

(c) As of June 30, the number of male and female inmates under their jurisdiction housed in a privately-operated facility, either in state or out of state; and

(d) As of June 30, the number of male and females inmates in their custody by race and Hispanic origin.

For the NPS-1B form, 51 central reporters (one from each and the Federal Bureau of Prisons) responsible for keeping records on inmates will be asked to provide information for the following categories:

(a) As of December 31, the number of male and female inmates under their jurisdiction with maximum sentences of more than one year, one year or less; and unsentenced inmates; and

(b) The number of inmates housed in county or other local authority correctional facilities, or in other state or Federal facilities on December 31, solely to ease prison crowding; and

(c) As of the direct result of state prison crowding during 2001, the number of inmates released via court order, administrative procedure or statute, accelerated release, sentence reduction, emergency release, or other expedited release; and

(d) The aggregate rated, operational, and design capacities, by sex, of each State's correctional facilities at year-end.

The Bureau of Justice Statistics uses this information in published reports and for the U.S. Congress, Executive Office of the President, practitioners, researchers, students, the media, and others interested in criminal justice statistics.

(5) An estimate of the total number of respondents and the amount of time needed for an average respondent to respond: There are approximately 51 respondents each taking an average of 3.0 hours to respond.

(6) An estimate of the total public burden (in hours) associated with the collection: There are approximately153 annual burden hours associated with this collection.

If additional information is required, contact: Mrs. Brenda E. Dyer, Clearance Officer, United States Department of Justice, Justice Management Division, Policy and Planning staff, Patrick Henry Building, Suite 1600, 601 D Street, NW., Washington, DC 20530.

Dated: August 5, 2004.
Brenda E. Dyer,
Clearance Officer, Department of Justice.

[FR Doc. 04-18317 Filed 8-10-04; 8:45 am]

BILLING CODE 4410-18-P